FEDERAL COMMUNICATIONS COMMISSION

Public Information Collections Approved By Office of Management and Budget

June 15, 2005.

SUMMARY: The Federal Communications Commission (FCC) has received Office of Management and Budget (OMB) approval for the following public information collections pursuant to the Paperwork Reduction Act of 1995, Pub. L. 104-13. An agency may not conduct or sponsor and a person is not required to respond to a collection of information unless it displays a currently valid control number.

FOR FURTHER INFORMATION CONTACT: Paul J. Laurenzano, Federal Communications Commission, 445 12th Street, SW., Washington DC, 20554, (202) 418-1359 or via the Internet at plaurenz@fcc.gov.

SUPPLEMENTARY INFORMATION: OMB Control No.: 3060-0816.

OMB Approval date: 5/26/2005.

Expiration Date: 5/31/2008.

Title: Local Telephone Competition and Broadband Reporting, WC Docket No. 04-141, FCC 04-266 (Report and Order).

Form No.: FCC form 477.

Estimated Annual Burden: 2,800 responses; 61,320 total annual burden hours; approximately 21.9 hours average per respondent.

Needs and Uses: FCC Form 477 seeks to gather information on the development of local competition and deployment of broadband service also known as advanced telecommunications services. The data are necessary to evaluate the status of developing competition in local exchange telecommunications markets and to evaluate the status of broadband deployment. The information is used by Commission staff to advise the Commission about the efficacy of Commission rules and policies adopted to implement the Telecommunications Act of 1996.

OMB Control No.: 3060-1046.

OMB Approval date: 5/25/2005.

Expiration Date: 05/31/2008.

Title: Implementation of the Pay Telephone Reclassification and Compensation Provisions of the Telecommunication Act of 1996, CC Docket No. 96-128, Order on Reconsideration.

Form No.: N/A.

Estimated Annual Burden: 4,854 responses; 485,400 total annual burden hours; 100 hours average response time per respondent.

Needs and Uses: On October 3, 2003, the Commission issued a Report and Order that required “Completing Carriers” to compensate payphone service providers (PSPs) for each and every completed call using a coinless access number (CC Docket 96-128/FCC 03-235). This Order on Reconsideration, released on October 22, 2004, does not change this compensation framework, but rather refines and builds upon its approach. It provides guidance on the types of contracts that the Commission would deem to be reasonable methods of compensating PSPs, extends the time period that carriers must retain certain payphone records, and clarifies the rules' reporting, certification, and audit requirements.

Federal Communications Commission.
Marlene H. Dortch,
Secretary.

[FR Doc. 05-12737 Filed 6-28-05; 8:45 am]

BILLING CODE 6712-01-P